DEPARTMENT OF STATE

[Public Notice 7776]

Persons on Whom Sanctions Have Been Imposed Under the Iran Sanctions Act of 1996

AGENCY: Department of State.

ACTION: Notice.

SUMMARY: The Secretary of State has determined that the following persons have engaged in sanctionable activity described in section 5(a) of the Iran Sanctions Act of 1996 (Pub. L. 104-172) (50 U.S.C. 1701 note) (“ISA”), as amended by the Comprehensive Iran Sanctions, Accountability, and Divestment Act of 2010 (Pub. L. 111-195) (22 U.S.C. 8501-51) (“CISADA”), and that certain sanctions should be imposed as a result: FAL Oil Company Limited; Kuo Oil (S) Pte. Ltd.; and Zhuhai Zhenrong Company.

DATES: Effective Date: The sanctions on FAL Oil Company Limited; Kuo Oil (S) Pte. Ltd.; and Zhuhai Zhenrong Company are effective January 12, 2012.

FOR FURTHER INFORMATION CONTACT: On general issues: Norman Galimba, Office of Terrorism Finance and Economic Sanctions Policy, Department of State, Telephone: (202) 647-9183. For U.S. Government procurement ban issues: Daniel Walt, Office of the Procurement Executive, Department of State, Telephone: (703) 516-1696.

SUPPLEMENTARY INFORMATION: Pursuant to the authority delegated to the Secretary of State in the Presidential Memorandum of September 23, 2010, 75 FR 67025 (the “Delegation Memorandum”), the Secretary has determined that the following persons have engaged in sanctionable activity described in section 5(a) of the ISA, as amended by the CISADA: FAL Oil Company Limited; Kuo Oil (S) Pte. Ltd.; and Zhuhai Zhenrong Company.

Pursuant to section 5(a) of the ISA and the Delegation Memorandum, the Secretary determined to impose on FAL Oil Company Limited the following sanctions described in section 6 of the ISA:

1. Export-Import Bank assistance for exports to sanctioned persons. The Export-Import Bank of the United States shall not give approval to the issuance of any guarantee, insurance, extension of credit, or participation in the extension of credit in connection with the export of any goods or services to FAL Oil Company Limited.

2. Export sanction. The United States Government shall not issue any specific license and shall not grant any other specific permission or authority to export any goods or technology to FAL Oil Company Limited under—

a. The Export Administration Act of 1979 (50 U.S.C. Appx. §§ 2401 et seq.);

b. The Arms Export Control Act (22 U.S.C. 2751 et seq.);

c. The Atomic Energy Act of 1954 (42 U.S.C. 2011 et seq.); or

d. Any other statute that requires the prior review and approval of the United States Government as a condition for the export or re-export of goods or services.

3. Loans from United States financial institutions. United States financial institutions shall be prohibited from making loans or providing credits to FAL Oil Company Limited totaling more than $10,000,000 in any 12-month period unless FAL Oil Company Limited is engaged in activities to relieve human suffering and the loans or credits are provided for such activities.

These sanctions apply with respect to FAL Oil Company Limited and not to any subsidiary, affiliate, or shareholder thereof unless separately identified.

Pursuant to section 5(a) of the ISA and the Delegation Memorandum, the Secretary determined to impose on Kuo Oil (S) Pte. Ltd. the following sanctions described in section 6 of the ISA:

1. Export-Import Bank assistance for exports to sanctioned persons. The Export-Import Bank of the United States shall not give approval to the issuance of any guarantee, insurance, extension of credit, or participation in the extension of credit in connection with the export of any goods or services to Kuo Oil (S) Pte. Ltd.

2. Export sanction. The United States Government shall not issue any specific license and shall not grant any other specific permission or authority to export any goods or technology to Kuo Oil (S) Pte. Ltd. under—

a. The Export Administration Act of 1979 (50 U.S.C. Appx. §§ 2401 et seq.);

b. The Arms Export Control Act (22 U.S.C. 2751 et seq.);

c. The Atomic Energy Act of 1954 (42 U.S.C. 2011 et seq.); or

d. Any other statute that requires the prior review and approval of the United States Government as a condition for the export or re-export of goods or services.

3. Loans from United States financial institutions. United States financial institutions shall be prohibited from making loans or providing credits to Kuo Oil (S) Pte. Ltd. totaling more than $10,000,000 in any 12-month period unless Kuo Oil (S) Pte. Ltd. is engaged in activities to relieve human suffering and the loans or credits are provided for such activities.

These sanctions apply with respect to Kuo Oil (S) Pte. Ltd. and not to any subsidiary, affiliate, or shareholder thereof unless separately identified.

Pursuant to section 5(a) of the ISA and the Delegation Memorandum, the Secretary determined to impose on Zhuhai Zhenrong Company the following sanctions described in section 6 of the ISA:

1. Export-Import Bank assistance for exports to sanctioned persons. The Export-Import Bank of the United States shall not give approval to the issuance of any guarantee, insurance, extension of credit, or participation in the extension of credit in connection with the export of any goods or services to Zhuhai Zhenrong Company.

2. Export sanction. The United States Government shall not issue any specific license and shall not grant any other specific permission or authority to export any goods or technology to Zhuhai Zhenrong Company under—

e. The Export Administration Act of 1979 (50 U.S.C. Appx. §§ 2401 et seq.);

f. The Arms Export Control Act (22 U.S.C. 2751 et seq.);

g. The Atomic Energy Act of 1954 (42 U.S.C. 2011 et seq.); or

h. Any other statute that requires the prior review and approval of the United States Government as a condition for the export or re-export of goods or services.

3. Loans from United States financial institutions. United States financial institutions shall be prohibited from making loans or providing credits to Zhuhai Zhenrong Company totaling more than $10,000,000 in any 12-month period unless Zhuhai Zhenrong Company is engaged in activities to relieve human suffering and the loans or credits are provided for such activities.

These sanctions apply with respect to Zhuhai Zhenrong Company and not to any subsidiary, affiliate, or shareholder thereof unless separately identified.

The sanctions described above with respect to each of the persons listed shall remain in effect until otherwise directed pursuant to the provisions of the ISA or other applicable authority. Pursuant to the authority delegated to the Secretary of State in the Delegation Memorandum, relevant agencies and instrumentalities of the United States Government shall take all appropriate measures within their authority to carry out the provisions of this notice. The Secretary of the Treasury is taking appropriate action to implement the sanctions for which authority has been delegated to the Secretary of the Treasury pursuant to the Delegation Memorandum and Executive Order 13574 of May 23, 2011.

The following constitutes a current, as of this date, list of persons on whom sanctions are imposed under the ISA. The particular sanctions imposed on an individual company are identified in the relevant Federal Register Notice.

—Allvale Maritime Inc. (see Public Notice 7585, 76 FR 56866, September 14, 2011)

—Associated Shipbroking (a.k.a. SAM) (see Public Notice 7585, 76 FR 56866, September 14, 2011)

—Belarusneft (see Public Notice 7408, 76 FR 18821, April 5, 2011)

—FAL Oil Company Limited

—Kuo Oil (S) Pte. Ltd.

—Naftiran Intertrade Company (see Public Notice 7197, 75 FR 62916, Oct. 13, 2010).

—Petrochemical Commercial Company International (a.k.a. PCCI) (see Public Notice 7585, 76 FR 56866, September 14, 2011)

—Petróleos de Venezuela S.A. (see Public Notice 7585, 76 FR 56866, September 14, 2011)

—Royal Oyster Group (see Public Notice 7585, 76 FR 56866, September 14, 2011)

—Société Anonyme Monégasque D'Administration Maritime Et Aérienne (a.k.a. S.A.M.A.M.A., a.k.a. SAMAMA) (see Public Notice 7585, 76 FR 56866, September 14, 2011)

—Speedy Ship (a.k.a. SPD) (see Public Notice 7585, 76 FR 56866, September 14, 2011)

—Tanker Pacific Management (Singapore) Pte. Ltd. (see Public Notice 7585, 76 FR 56866, September 14, 2011)

—Zhuhai Zhenrong Company

Dated: January 20, 2012.
Deborah A. McCarthy,
Acting Assistant Secretary of State for Economic and Business Affairs.

[FR Doc. 2012-1840 Filed 1-26-12; 8:45 am]

BILLING CODE 4710-07-P